DEPARTMENT OF EDUCATION

34 CFR Part 379

RIN 1820-AB45

Projects With Industry; Correction

AGENCY: Office of Special Education and Rehabilitative Services, Department of Education.

ACTION: Final regulations; correction.

SUMMARY: On April 6, 2000, final regulations for the Projects With Industry program were published in the Federal Register (65 FR 18214). This document corrects the April 6 document.

DATES: This correction is effective May 8, 2000.

FOR FURTHER INFORMATION CONTACT: Thomas E. Finch, U.S. Department of Education, 400 Maryland Avenue, SW., room 3315, Mary E. Switzer Building, Washington DC 20202-2575. Telephone: (202) 205-8292. If you use a telecommunications device for the deaf (TDD), you may call the Federal Information Relay Service (FIRS) at 1-800-877-8339.

Individuals with disabilities may obtain this document in an alternative format (e.g., Braille, large print, audiotape, or computer diskette) on request to the contact person named in the preceding paragraph.

SUPPLEMENTARY INFORMATION:

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the previous sites. If you have questions about using the PDF, call the U.S. Government Printing Office (GPO), toll free, at 1-888-293-6498; or, in the Washington, DC, area at (202) 512-1530.

Note: The official version of this document is the document published in the Federal Register. Free Internet access to the official edition of the Federal Register and the Code of Federal Regulations is available on GPO Access at: http://www.access.gpo.gov/nara/index.html

(Catalog of Federal Domestic Assistance Number 84.234 Projects With Industry.)
Dated: May 31, 2000.
Judith E. Heumann,
Assistant Secretary for Special Education and Rehabilitative Services.

In final rule, FR Doc. 00-8523, published on April 6, 2000 (65 FR 18214) make the following corrections:

1. On page 18215, in the first column, in the preamble, under the Discussion heading, in line 37, correct “will be served” to read “will be placed”.

2. On page 18215, in the first column, in the preamble, under the Changes heading, in line 11, correct “will be served” to read “will be placed”.

§ 379.21 [Corrected]

3. On page 18219, in the second column, in § 379.21(c), in line 9, correct “will be served” to read “will be placed”.

[FR Doc. 00-14073 Filed 6-8-00; 8:45 am]

BILLING CODE 4000-01-U